DEPARTMENT OF LABOR

Child Labor, Forced Labor, and Forced or Indentured Child Labor in the Production of Goods in Foreign Countries and Efforts by Certain Countries To Eliminate the Worst Forms of Child Labor

AGENCY: The Bureau of International Labor Affairs, United States Department of Labor.

ACTION: Notice: Request for information and invitation to comment.

SUMMARY: This notice is a request for information and/or comment on reports issued by the Bureau of International Labor Affairs (ILAB) September 30, 2013, regarding child labor and forced labor in foreign countries. Relevant information will be used by the Department of Labor (DOL) in preparation of its ongoing reporting under Congressional mandates and Presidential directive. In addition, ILAB will use relevant information to conduct assessments of each country's individual advancement toward eliminating the worst forms of child labor during the current reporting period compared to previous years.

DATES: Submitters of information are requested to provide their submission to the Office of Child Labor, Forced Labor and Human Trafficking (OCFT) at the email or physical address below by 5 p.m. January 15, 2014.

To Submit Information: Information submitted to DOL should be submitted directly to OCFT, Bureau of International Labor Affairs, U.S. Department of Labor at (202) 693-4843 (this is not a toll free number). Comments, identified as “Docket No. DOL-2013-0003” may be submitted by any of the following methods:

Federal eRulemaking Portal: http://www.regulations.gov.

The portal includes instructions for submitting comments. Parties submitting responses electronically are encouraged not to submit paper copies.

Facsimile (fax): OCFT at 202-693-4830.

Mail, Express Delivery, Hand Delivery, and Messenger Service (1 copy): Tina McCarter and Randall Hicks at U.S. Department of Labor, OCFT, Bureau of International Labor Affairs, 200 Constitution Avenue NW., Room S-5317, Washington, DC 20210.

Email: Email submissions should be addressed to both Tina McCarter (McCarter.Tina@dol.gov) and Randall Hicks (Hicks.Randall.G@dol.gov).

FOR FURTHER INFORMATION CONTACT: Tina McCarter and Randall Hicks (see contact information above).

SUPPLEMENTARY INFORMATION: I. Section 105(b)(1) of the Trafficking Victims Protection Reauthorization Act of 2005 (“TVPRA of 2005”), Public Law 109-164 (2006), directed the Secretary of Labor, acting through ILAB, to “develop and make available to the public a list of goods from countries that the Bureau of International Labor Affairs has reason to believe are produced by forced labor or child labor in violation of international standards” (TVPRA List).

Pursuant to this mandate, in December 2007 DOL published in the Federal Register a set of procedural guidelines that ILAB follows in developing the TVPRA List (72 FR 73374). The guidelines set forth the criteria by which information is evaluated; established procedures for public submission of information to be considered by ILAB; and identified the process ILAB follows in maintaining and updating the List after its initial publication.

ILAB published its first TVPRA List on September 30, 2009, and has issued updates in 2010, 2011, 2012, and 2013. This List is updated periodically as additional countries and territories are researched and new information for countries and territories already reviewed is evaluated. For a copy of the 2013 TVPRA List, Frequently Asked Questions, and other materials relating to the TVPRA List, see ILAB's TVPRA Web page at http://www.dol.gov/ILAB/programs/ocft/tvpra.htm.

II. Executive Order No. 13126 (E.O. 13126) declared that it was “the policy of the United States Government * * * that the executive agencies shall take appropriate actions to enforce the laws prohibiting the manufacture or importation of goods, wares, articles, and merchandise mined, produced, or manufactured wholly or in part by forced or indentured child labor.” Pursuant to E.O. 13126, and following public notice and comment, the Department of Labor published in the January 18, 2001, Federal Register, a final list of products (“E.O. List”), identified by country of origin, that the Department, in consultation and cooperation with the Departments of State (DOS) and Treasury [relevant responsibilities now within the Department of Homeland Security (DHS)], had a reasonable basis to believe might have been mined, produced or manufactured with forced or indentured child labor (66 FR 5353). In addition to the List, the Department also published on January 18, 2001, “Procedural Guidelines for Maintenance of the List of Products Requiring Federal Contractor Certification as to Forced or Indentured Child Labor,” which provide for maintaining, reviewing, and, as appropriate, revising the EO List (66 FR 5351).

Pursuant to Sections D through G of the Procedural Guidelines, the EO List may be updated through consideration of submissions by individuals or through OCFT's own initiative.

DOL has officially revised the EO List four times, most recently on July 23, 2013, each time after public notice and comment as well as consultation with DOS and DHS.

The current EO List, Procedural Guidelines, and related information can be accessed on the Internet at http://www.dol.gov/ILAB/regs/eo13126/main.htm.

III. The Trade and Development Act of 2000 (TDA), Public Law 106-200 (2002), established a new eligibility criterion for receipt of trade benefits under the Generalized System of Preferences (GSP), Caribbean Basin Trade and Partnership Act (CBTPA), and Africa Growth and Opportunity Act (AGOA). The TDA amends the GSP reporting requirements of Section 504 of the Trade Act of 1974, 19 U.S.C. 2464, to require that the President's annual report on the status of internationally recognized worker rights include “findings by the Secretary of Labor with respect to the beneficiary country's implementation of its international commitments to eliminate the worst forms of child labor.” Title II of the TDA and the TDA Conference Report, Joint Explanatory Statement of the Committee of Conference, 106th Cong.2d.Sess. (2000), indicate that the same criterion applies for the receipt of benefits under CBTPA and AGOA, respectively.

In addition, the Andean Trade Preference Act, as amended and expanded by the Andean Trade Promotion and Drug Eradication Act, Public Law 107-210, Title XXXI (2002), includes as a criterion for receiving benefits “[w]hether the country has implemented its commitments to eliminate the worst forms of child labor as defined in section 507(6) of the Trade Act of 1974.” DOL fulfills these reporting mandates through annual publication of the U.S. Department of Labor's Findings on the Worst Forms of Child Labor with respect to countries eligible for the aforementioned programs. The 2012 report and additional background information are available on the Internet at http://www.dol.gov/ILAB/programs/ocft/tda.htm.

Information Requested and Invitation to Comment: Interested parties are invited to comment and provide information regarding DOL's 2012 TDA Report; the 2013 TVPRA List; and the current E.O. 13126 List, all of which may be found on the Internet at http://www.dol.gov/ilab/programs/ocft/research.htm or obtained from OCFT. DOL requests comments or information to update the findings and suggestions for government action for countries reviewed in the TDA Report, as well as to assess each country's individual advancement toward eliminating the worst forms of child labor during the current reporting period compared to previous years. For more information on the types of issues covered in the TDA Report, please see Appendix II of the report. In addition, DOL especially appreciates information on the nature and extent of child labor, forced labor, and forced or indentured child labor in the production of goods in foreign countries as well as information on government, industry, or third-party actions to address these issues for countries reviewed for the E.O. and TVPRA lists. Materials submitted should be confined to the specific topics of these reports. DOL will generally consider sources with dates up to five years old (i.e., data not older than January 1, 2008). DOL appreciates the extent to which submissions clearly indicate the time period to which they apply. In the interest of transparency, classified information will not be accepted. Where applicable, information submitted should indicate its source or sources, and copies of the source material should be provided. If primary sources are utilized, such as research studies, interviews, direct observations, or other sources of quantitative or qualitative data, details on the research or data-gathering methodology should be provided. Please see the 2012 TDA Report, 2013 TVPRA List, and E.O. List for a complete explanation of relevant terms, definitions, and reporting guidelines employed by DOL.

This notice is a general solicitation of comments from the public.

Signed at Washington, DC, this 21st day of November 2013.
Carol Pier,
Acting Deputy Undersecretary for International Affairs.

[FR Doc. 2013-28839 Filed 12-2-13; 8:45 am]

BILLING CODE 4510-28-P